DEPARTMENT OF JUSTICE

Antitrust Division

Notice Pursuant to the National Cooperative Research and Production Act of 1993—RapidIO Trade Association

Notice is hereby given that, on September 22, 2004, pursuant to section 6(a) of the National Cooperative Research and Production Act of 1993, 15 U.S.C. 4301 et seq. (“the Act”), RapidIO Trade Association (“RapidIO”) had filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: RapidIO Trade Association, Austin, TX. The nature and scope of RapidIO's standards development activities are: To direct the future development and drive the adoption of the RapidIO architecture. The RapidIO Interconnect Architecture, designed to be compatible with the most popular integrated communications processors, host processors, and networking digital signal processors, is a high-performance, packet-switched, interconnect technology.

Dorothy B. Fountain,
Deputy Director of Operations, Antitrust Division.

[FR Doc. 04-27060 Filed 12-9-04; 8:45 am]

BILLING CODE 4410-11-M